DEPARTMENT OF COMMERCE

International Trade Administration

[A-533-813, A-560-802, A-570-851]

Certain Preserved Mushrooms From India, Indonesia, and the People's Republic of China: Notice of Extension of Time Limit for Preliminary Results in Antidumping Duty Administrative Reviews

AGENCY: Import Administration, International Trade Administration, Department of Commerce.

EFFECTIVE DATE: August 16, 2002.

FOR FURTHER INFORMATION CONTACT: David J. Goldberger at (202) 482-4136, or Brian Smith at (202) 482-1766, Office 2, AD/CVD Enforcement Group I, Import Administration, International Trade Administration, U.S. Department of Commerce, 14th Street and Constitution Avenue, N.W., Washington, D.C., 20230.

SUMMARY: The Department of Commerce is extending the time limit for the preliminary results of the administrative reviews of the antidumping duty order on certain preserved mushrooms from India, Indonesia, and the People's Republic of China, which cover the period February 1, 2001, through January 31, 2002.

SUPPLEMENTARY INFORMATION:

APPLICABLE STATUTE:

Unless otherwise indicated, all citations to the Tariff Act of 1930, as amended (the Act), are references to the provisions effective January 1, 1995, the effective date of the amendments made to the Act by the Uruguay Round Agreements Act. In addition, unless otherwise indicated, all citations to the Department of Commerce (the Department) regulations are to 19 C.F.R. Part 351 (April 2001).

Pursuant to section 751(a)(3)(A) of the Act, the Department shall make a preliminary determination in an administrative review of an antidumping duty order within 245 days after the last day of the anniversary month of the date of publication of the order. The Act further provides, however, that the Department may extend that 245-day period to 365 days if it determines it is not practicable to complete the review within the foregoing time period. The preliminary results are currently scheduled to be completed on October 31, 2002. However, the Department finds that it is not practicable to complete the preliminary results in these administrative reviews of certain preserved mushrooms from India, Indonesia, and the People's Republic of China within this time limit because additional time is needed to conduct verifications in all of these administrative reviews.

Therefore, in accordance with section 751(a)(3)(A) of the Act, the Department is extending the time for completion of the preliminary results of these reviews until February 28, 2003.

Dated: August 12, 2002.
Richard W. Moreland,
Deputy Assistant Secretary for Import Administration.

[FR Doc. 02-20905 Filed 8-15-02; 8:45 am]

BILLING CODE 3510-DS-S